DEPARTMENT OF LABOR

Employment and Training Administration

Post-Initial Determinations Regarding Eligiblity To Apply for Trade Adjustment Assistance

In accordance with Sections 223 and 284 (19 U.S.C. 2273 and 2395) of the Trade Act of 1974 (19 U.S.C. 2271, et seq.) (“Act”), as amended, the Department of Labor herein presents Notice of Affirmative Determinations Regarding Application for Reconsideration, summaries of Negative Determinations Regarding Applications for Reconsideration, summaries of Revised Certifications of Eligibility, summaries of Revised Determinations (after Affirmative Determination Regarding Application for Reconsideration), summaries of Negative Determinations (after Affirmative Determination Regarding Application for Reconsideration), summaries of Revised Determinations (on remand from the Court of International Trade), and summaries of Negative Determinations (on remand from the Court of International Trade) regarding eligibility to apply for trade adjustment assistance under Chapter 2 of the Act (“TAA”) for workers by (TA-W) number issued during the period of March 1, 2016 through August 17, 2018. Post-initial determinations are issued after a petition has been certified or denied. A post-initial determination may revise a certification, or modify or affirm a negative determination.

Affirmative/Negative Determinations Regarding Applications for Reconsideration

The certifying officer may grant an application for reconsideration under the following circumstances: (1) If it appears on the basis of facts not previously considered that the determination complained of was erroneous; (2) If it appears that the determination complained of was based on a mistake in the determination of facts previously considered; or (3) If, in the opinion of the certifying officer, a misinterpretation of facts or of the law justifies reconsideration of the determination. See 29 CFR 90.18(c).

Affirmative Determinations Regarding Applications for Reconsideration

The following Applications for Reconsideration have been received and granted. See 29 CFR 90.18(d). The group of workers or other persons showing an interest in the proceedings may provide written submissions to show why the determination under reconsideration should or should not be modified. The submissions must be sent no later than ten days after publication in the Federal Register to the Office of the Director, Office of Trade Adjustment Assistance, Employment and Training Administration, U.S. Department of Labor, Room N-5428, 200 Constitution Avenue NW, Washington, DC 20210. See 29 CFR 90.18(f).

TA-W No. | Subject firm | Location
85,355 | Chevron Mining, Inc | Questa, NM.
85,956 | Cameron International Corporation | Duncan, OK.
90,125 | Owens-Brockway Glass Container, Inc | Oakland, CA.
90,324 | Embarq Management Company/United Telephone of Pennsylvania | Carlisle, PA.
91,039 | Foxconn Assembly, LLC | Houston, TX.
91,121 | REC Silicon LLC | Moses Lake, WA.
91,138 | GrafTech International Holdings Inc | Anmoore, WV.
91,218 | Mesabi Radial Tire Company | Hibbing, MN.
91,248 | Exal Corporation | Youngstown, OH.
91,264 | Shenango Incorporated | Pittsburgh, PA.
91,325 | Mesabi Metallics Company LLC f/k/a Essar Steel Minnesota LLC | Hibbing, MN.
91,329 | Irathane Systems, Inc | Hibbing, MN.
91,495 | Molycorp Metals and Alloys, Inc | Mountain Pass, CA.
91,525 | Teknetix Inc | Parkersburg, WV.
91,562 | Halliburton Energy Services, Inc | Duncan, OK.
91,569 | Vigo Coal Operating Company, LLC | Mount Carmel, IL.
91,641 | General Electric Company | Fort Edward, NY.
91,673 | Climax Manufacturing Inc | Lowville, NY.
91,791 | Woodard & Curran, Inc | Madison, ME.
91,875 | Manitowoc Cranes, LLC | Manitowoc, WI.
91,882 | SPX FLOW, Inc | McKean, PA.
91,957 | Joy Global, Inc | Eighty Four, PA.
92,084 | Northern Industrial Erectors, Inc | Grand Rapids, MN.
92,193 | White Pine Electric Power, LLC | White Pine, MI.
92,256 | Ball Corporation | Weirton, WV.
92,318 | Vancouver Iron and Steel, Inc | Vancouver, WA.
92,453 | Garco Building Systems | Airway Heights, WA.
92,463 | Brayton Point Energy, LLC | Somerset, MA.
92,537 | General Motors Components Holdings, LLC (GMCH) | Kokomo, IN.
92,554 | Skiva Graphics Screen | Carlsbad, CA.
92,574 | Truvision Services, Inc | Yorkville, IL.
92,590 | MUFG Union Bank, N.A | Monterey Park, CA.
92,612 | Graphics Art Center | Portland, OR.
92,779 | 3M Company | Elyria, OH.
92,921 | JPMorgan Chase & Co | Columbus, OH.
92,945 | Progress Rail | Hodgkins, IL.
93,064 | Locke Insulators, Inc. | Baltimore, MD.
93,094 | Health Care Service Corporation | Marion, IL.
93,223 | Saint-Gobain Proppants | Fort Smith, AR.
93,431 | Optum Services Inc., United HealthGroup | Hartford, CT.
93,521 | PCI Nitrogen LLC | Pasadena, TX.
93,760 | Radial South | Memphis, TN.
91,121A | REC Silicon ASA | Silver Bow, MT.
91,121B | Nemo IT Solutions | Moses Lake, WA.
91,121C | Spherion Staffing LLC | Silver Bow, MT.
91,329A | Industrial Rubber Applicators, Inc. | Hibbing, MN.
91,329B | Iracore International-Minnesota, Inc | Hibbing, MN.
91,569A | Vigo Coal Operating Company, LLC | Boonville, IN.
91,569B | Vigo Coal Operating Company, LLC | Evansville, IN.

Negative Determinations Regarding Application for Reconsideration

The following determinations regarding applications for reconsideration have been received and denied. The determination complained of was not erroneous; there was not a mistake in the determination of facts previously considered; and in the opinion of the certifying officer, there was not a misinterpretation of facts or of the law justifying reconsideration of the determination. A Negative Determination Regarding Application for Reconsideration is a final determination for purposes of judicial review pursuant to section 284 of the Act (19 U.S.C. 2395) and 29 CFR 90.19(a). See 29 CFR 90.18(e).

TA-W No. | Subject firm | Location
86,111 | Seattle Snohomish Mill Company Inc | Snohomish, WA.
91,272 | L-3 Communications Integrated Systems, L.P | Beale Air Force Base, CA.
91,475 | Sprint | Blountville, TN.
91,490 | Sprint | Blountville, TN.
91,543 | Mayflower Vehicle Systems, LLC | Shadyside, OH.
91,760 | Aviara Residence Club Owners Association | Carlsbad, CA.
91,797 | Toshiba America Information Systems, Inc | Irvine, CA.
91,953 | Mercer Lime Company | Slippery Rock, PA.
92,182 | Gerdau Ameristeel US, Inc | Calvert City, KY.
92,507 | Halliburton Energy Services, Inc | Tulsa, OK.
92,518 | Fifth Third Bank | Coral Gables, FL.
92,767 | Ocwen Financial Corporation | Houston, TX.
92,826 | Honeywell International, Inc | Melville, NY.

Notice of Revised Certifications of Eligibility

Revised certifications of eligibility have been issued with respect to cases where affirmative determinations and certificates of eligibility were issued initially, but a minor error was discovered after the certification was issued. The revised certifications are issued pursuant to the Secretary's authority under section 223 of the Act and 29 CFR 90.16. Revised Certifications of Eligibility are final determinations for purposes of judicial review pursuant to section 284 of the Act (19 U.S.C. 2395) and 29 CFR 90.19(a).

Notice of Determinations on Reconsideration

Post-initial determinations have been issued with respect to cases where affirmative determinations regarding applications for reconsideration were granted. For cases where the worker group eligibility requirements are met, Revised Certifications of Eligibility or Revised Determinations have been issued. Revised Certifications of Eligibility and Revised Determinations are final determinations for purposes of judicial review pursuant to section 284 of the Act (19 U.S.C. 2395) and 29 CFR 90.19(a). See 29 CFR 90.18(h). Negative Determinations on Reconsideration have been issued with respect to cases where the worker group eligibility requirements are not met. Negative Determinations on Reconsideration are final determinations for purposes of judicial review pursuant to section 284 of the Act (19 U.S.C. 2395) and 29 CFR 90.19(a). See 29 CFR 90.18(i).

Notice of Determination on Remand

Post-initial determinations have also been issued with respect to cases where negative determinations regarding eligibility to apply for TAA were issued initially or on reconsideration and were appealed to the Court of International Trade and remanded by the court to the Secretary for the taking of additional evidence. See 29 CFR 90.19(a) and (c). For cases where the worker group eligibility requirements are met, the previous determination was modified and Revised Determinations on Remand have been issued. For cases where the worker group eligibility requirements are not met, the previous determination is affirmed and Negative Determinations on Remand have been issued. The Secretary will certify and file the record of the remand proceedings in the Court of International Trade. Determinations on Remand are final determinations for purposes of judicial review pursuant to section 284 of the Act (19 U.S.C. 2395).

Summary of Statutory Requirement

(This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below).

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely;

AND (ii and iii below).

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e) must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Revised Certifications of Eligibility

The following revised certifications of eligibility to apply for TAA have been issued. The date following the company name and location of each determination references the impact date for all workers of such determination, and the reason(s) for the determination.

The following revisions have been issued.

TA-W No. | Subject firm | Location | Impact date | Reason(s)
82,557 | Ericsson Inc | Overland Park, KS | 3/12/2012 | Worker Group Clarification.
83,328 | General Electric Company | Erie, PA | 12/20/2012 | Worker Group Clarification.
85,286 | United States Steel Corporation | Lorain, OH | 5/2/2013 | Worker Group Clarification.
85,302 | Kimberly Carbonates, LLC | Kimberly, WI | 5/12/2013 | Worker Group Clarification.
85,451 | Fifth Third Mortgage Company | Cincinnati, OH | 7/25/2013 | Other.
85,547 | Foxconn Assembly LLC/Foxconn Hon Hai Logistics LLC | Houston, TX | 9/22/2013 | Worker Group Clarification.
85,592 | Micro Power Electronics, Inc | Beaverton, OR | 10/10/2013 | Worker Group Clarification.
85,605 | GE Power Electronics, Inc | Galion, OH | 10/17/2013 | Wages Reported Under Different FEIN Number.
85,625 | Entergy Nuclear Operations, Inc | Vernon, VT | 10/29/2013 | Other.
85,629 | Amgen Inc | Seattle, WA | 11/3/2013 | Worker Group Clarification.
85,664 | Kraft Foods Group Global, Inc | Woburn, MA | 11/20/2013 | Worker Group Clarification.
85,703 | CareFusion Resources, LLC | Englewood, CO | 12/8/2013 | Worker Group Clarification.
85,717 | California Redwood Company | Korbel, CA | 12/9/2013 | Worker Group Clarification.
85,718 | Osram Sylvania | Danvers, MA | 12/10/2013 | Worker Group Clarification.
85,725 | Lexis Nexis | Miamisburg, OH | 12/15/2013 | Wages Reported Under Different FEIN Number.
85,742 | General Motors Lake Orion Assembly | Lake Orion, MI | 12/19/2013 | Worker Group Clarification.
85,763 | Ross Mould LLC | Washington, PA | 8/24/2014 | Worker Group Clarification.
85,796 | U.S. Steel Tubular Products, Inc | Lone Star, TX | 1/27/2014 | Worker Group Clarification.
85,804 | Convergys Corporation | Jacksonville, TX | 2/2/2014 | Wages Reported Under Different FEIN Number.
85,867 | Day & Zimmermann, Inc | Parsons, KS | 3/6/2014 | Worker Group Clarification.
85,911 | Arrow International | Asheboro, NC | 3/27/2014 | Worker Group Clarification.
85,954 | Baker Hughes Incorporated | Claremore, OK | 4/22/2014 | Worker Group Clarification.
85,961 | Modine Manufacturing Company | Washington, IA | 4/24/2014 | Worker Group Clarification.
85,992 | Verizon | Cary, NC | 5/6/2014 | Wages Reported Under Different FEIN Number.
86,001 | The Boeing Company | Seattle, WA | 6/13/2015 | Worker Group Clarification.
86,004 | Cooper Power Systems | Fayetteville, AR | 5/8/2014 | Worker Group Clarification.
86,065 | Cliffs Natural Resources, Inc | Ishpeming, MI | 6/4/2014 | Worker Group Clarification.
86,083 | Magnetation LLC | Keewatin, MN | 6/9/2014 | Worker Group Clarification.
86,088 | Breg, Inc | Grand Prairie, TX | 6/9/2014 | Wages Reported Under Different FEIN Number.
86,089 | Huntington Alloys Corporation | Huntington, WV | 6/10/2014 | Worker Group Clarification.
90,004 | Citizens Bank, National Association | Bridgeport, CT | 1/1/2014 | Worker Group Clarification.
90,013 | National Oilwell Varco | Springfield, OH | 1/1/2014 | Wages Reported Under Different FEIN Number.
90,046 | ConMed | Centennial, CO | 1/1/2014 | Worker Group Clarification.
90,075 | Symantec Corporation | Springfield, OR | 1/1/2014 | Worker Group Clarification.
90,075 | Symantec Corporation | Springfield, OR | 1/1/2014 | Worker Group Clarification.
90,082 | Lumentum Operations LLC | Bloomfield, CT | 1/1/2014 | Worker Group Clarification.
90,166 | Dresser, Inc | Avon, MA | 5/9/2015 | Worker Group Clarification.
90,251 | Caterpillar, Inc | Lafayette, IN | 1/1/2014 | Worker Group Clarification.
90,278 | Breg, Inc | Plano, TX | 1/1/2014 | Wages Reported Under Different FEIN Number.
90,281 | Verso Corporation | Wickliffe, KY | 1/1/2014 | Worker Group Clarification.
90,327 | Kyklos Bearing International, LLC | Sandusky, OH | 1/1/2014 | Worker Group Clarification.
91,017 | American Airlines, Inc | Fort Worth, TX | 10/2/2014 | Wages Reported Under Different FEIN Number.
91,027 | Indiana Marujun, LLC | Winchester, IN | 10/2/2014 | Worker Group Clarification.
91,030 | Mitsubishi Motors North America, Inc | Normal, IL | 10/6/2014 | Worker Group Clarification.
91,045 | Higher One, Inc | New Haven, CT | 10/9/2014 | Ownership Change of a Successor Firm.
91,051 | Carter Fuel Systems | Logansport, IN | 10/1/2014 | Worker Group Clarification.
91,070 | LPL Financial LLC | San Diego, CA | 10/22/2014 | Worker Group Clarification.
91,090 | AK Steel Corporation | Ashland, KY | 10/26/2014 | Worker Group Clarification.
91,092 | One Call Care Management | Jacksonville, FL | 10/29/2014 | Worker Group Clarification.
91,132 | Century Aluminum of South Carolina, Inc | Goose Creek, SC | 11/11/2014 | Worker Group Clarification.
91,145 | Joy Global Underground Mining, LLC | Franklin, PA | 11/27/2015 | Worker Group Clarification.
91,152 | PetroChoice, LLC | Chisholm, MN | 11/17/2014 | Worker Group Clarification.
91,177 | PTC Alliance | Beaver Falls, PA | 11/14/2014 | Wages Reported Under Different FEIN Number.
91,205 | KBR, Inc | Houston, TX | 12/8/2014 | Wages Reported Under Different FEIN Number.
91,211 | D+H USA Corporation | Portland, OR | 12/10/2014 | Wages Reported Under Different FEIN Number.
91,233 | Thermo Fisher Scientific, LLC | Austin, TX | 12/15/2014 | Wages Reported Under Different FEIN Number.
91,257 | Huntley Power LLC | Tonawanda, NY | 12/22/2014 | Worker Group Clarification.
91,258 | International Business Machines (IBM) | Denver, CO | 12/22/2014 | Worker Group Clarification.
91,279 | Allegheny Ludlum LLC | Bagdad, PA | 1/4/2015 | Worker Group Clarification.
91,290 | ConAgra Foods, Inc | Omaha, NE | 12/24/2014 | Worker Group Clarification.
91,336 | Spirit Aerosystems, Inc | Wichita, KS | 10/19/2015 | Worker Group Clarification.
91,352 | Noranda Aluminum, Inc | New Madrid, MO | 2/5/2016 | Wages Reported Under Different FEIN Number.
91,485 | Sensata Technologies, Inc | Springfield, TN | 2/18/2015 | Worker Group Clarification.
91,499 | Saginaw Machine Systems, Inc | Saginaw, MI | 2/22/2015 | Wages Reported Under Different FEIN Number.
91,511 | Technicolor Home Entertainment Services | Olyphant, PA | 2/24/2015 | Ownership Change of a Successor Firm.
91,535 | General Electric Company | Grove City, PA | 3/1/2015 | Wages Reported Under Different FEIN Number.
91,535 | General Electric Company | Grove City, PA | 3/1/2015 | Worker Group Clarification.
91,549 | W.W. Grainger, Inc | Janesville, WI | 3/3/2015 | Worker Group Clarification.
91,554 | Polar Tank Trailer | Holdingford, MN | 3/4/2015 | Worker Group Clarification.
91,567 | Titan Tire Corporation of Bryan | Bryan, OH | 2/20/2016 | Other.
91,596 | Hitachi Metals Automotive Components, LLC | Wellsboro, PA | 3/14/2015 | Worker Group Clarification.
91,611 | Sherwin Alumina Company, LLC | Gregory, TX | 3/21/2015 | Wages Reported Under Different FEIN Number.
91,616 | Mary's River Lumber Company | Corvallis, OR | 3/21/2015 | Worker Group Clarification.
91,653 | Royal Ingredients, LLC | Swedesboro, NJ | 3/31/2015 | Worker Group Clarification.
91,654 | WKW Roof Rail Systems, LLC | Battle Creek, MI | 3/31/2015 | Worker Group Clarification.
91,725 | General Electric Company | Erie, PA | 6/4/2016 | Worker Group Clarification.
91,755 | Kraft Heinz Foods Company | Allentown, PA | 4/28/2015 | Worker Group Clarification.
91,809 | Sprint | Overland Park, KS | 5/12/2015 | Worker Group Clarification.
91,811 | Sykes Enterprises, Incorporated | Langhorne, PA | 5/13/2015 | Worker Group Clarification.
91,816 | Nike Foundation | Beaverton, OR | 5/16/2015 | Worker Group Clarification.
91,900 | Intel Corporation | Hillsboro, OR | 6/9/2015 | Worker Group Clarification.
91,914 | Ocwen Loan Servicing, LLC | West Palm Beach, FL | 6/10/2015 | Worker Group Clarification.
91,920 | Compucom Systems, Inc | Dallas, TX | 6/14/2015 | Worker Group Clarification.
91,954 | Siemens Shared Services | Orlando, FL | 6/23/2015 | Worker Group Clarification.
92,005 | CTS Corporation | Elkhart, IN | 7/8/2015 | Worker Group Clarification.
92,015 | Mattel, Inc | East Aurora, NY | 7/13/2015 | Worker Group Clarification.
92,023 | Alcatel-Lucent USA, Inc | Naperville, IL | 7/18/2015 | Worker Group Clarification.
92,078 | Intel Corporation | Rio Rancho, NM | 8/1/2015 | Worker Group Clarification.
92,106 | Gonzalez Group, LLC | Litchfield, MI | 8/11/2015 | Worker Group Clarification.
92,118 | CVG Alabama, LLC | Piedmont, AL | 6/24/2015 | Wages Reported Under Different FEIN Number.
92,137 | Weyerhaeuser NR Company | Columbia Falls, MT | 8/23/2015 | Worker Group Clarification.
92,175 | Dow Business Services, LLC | Midland, MI | 9/1/2015 | Worker Group Clarification.
92,176 | Delphi Automotive Systems, LLC | Warren, OH | 9/2/2015 | Worker Group Clarification.
92,183 | Applied Materials | Austin, TX | 8/8/2016 | Worker Group Clarification.
92,189 | GE Energy Power Conversion US, Inc | Pittsburgh, PA | 9/7/2015 | Worker Group Clarification.
92,198 | Ericsson, Inc | Plano, TX | 9/12/2015 | Worker Group Clarification.
92,214 | Quantum Spatial, Inc | Anchorage, AK | 9/15/2015 | Worker Group Clarification.
92,217 | Caterpillar Inc | Houston, PA | 9/16/2015 | Worker Group Clarification.
92,243 | Harman | Cheney, WA | 9/22/2015 | Worker Group Clarification.
92,251 | Versum Materials US, LLC | Allentown, PA | 9/9/2015 | Wages Reported Under Different FEIN Number.
92,293 | HP Inc | Palo Alto, CA | 10/4/2015 | Worker Group Clarification.
92,293 | HP Inc | Palo Alto, CA | 10/4/2015 | Worker Group Clarification.
92,293 | HP Inc | Palo Alto, CA | 10/4/2015 | Worker Group Clarification.
92,325 | ConvaTec | Greensboro, NC | 10/14/2015 | Worker Group Clarification.
92,403 | Convergys Customer Management Group | Tamarac, FL | 11/3/2015 | Worker Group Clarification.
92,411 | tronc, Inc | Chicago, IL | 11/9/2015 | Worker Group Clarification.
92,422 | Rexnord Industries, LLC | Indianapolis, IN | 11/15/2015 | Worker Group Clarification.
92,465 | GE Inspection Technologies | Lewistown, PA | 12/5/2015 | Worker Group Clarification.
92,465 | GE Inspection Technologies | Lewistown, PA | 12/5/2015 | Worker Group Clarification.
92,471 | FCR | Independence, OR | 12/7/2015 | Worker Group Clarification.
92,482 | Crew Knitwear LLC | Los Angeles, CA | 12/9/2015 | Wages Reported Under Different FEIN Number.
92,493 | Pentair Technical Solutions | Houston, TX | 12/15/2015 | Worker Group Clarification.
92,546 | Kellogg Seelyville Bakery | Terre Haute, IN | 1/10/2016 | Worker Group Clarification.
92,605 | M+W US, Inc | Plano, TX | 2/2/2016 | Worker Group Clarification.
92,625 | tronc, Inc | Chicago, IL | 2/6/2016 | Ownership Change of a Successor Firm.
92,634 | Seagate Technology | Shakopee, MN | 2/10/2016 | Worker Group Clarification.
92,644 | Luvo USA, LLC f/k/a Provita Cuisine LLC | Schaumburg, IL | 2/14/2016 | Worker Group Clarification.
92,684 | ASG Technologies Group, Inc | Naples, FL | 2/24/2016 | Worker Group Clarification.
92,692 | Travelport, LP | Kansas City, MO | 3/1/2016 | Worker Group Clarification.
92,732 | Ross Mould LLC | Washington, PA | 3/12/2017 | Other.
92,740 | NSi Industries LLC | Mount Vernon, NY | 3/16/2016 | Worker Group Clarification.
92,741 | Pacific Gas and Electric Co | San Francisco, CA | 3/16/2016 | Worker Group Clarification.
92,754 | Axeon Specialty Products LLC | Paulsboro, NJ | 3/24/2016 | Worker Group Clarification.
92,796 | Dresser-Rand Company | Olean, NY | 6/5/2017 | Worker Group Clarification.
92,805 | Nielsen | Green Bay, WI | 4/6/2016 | Worker Group Clarification.
92,839 | Dura Automotive Systems, LLC | Stockton, IL | 4/25/2016 | Wages Reported Under Different FEIN Number.
92,845 | Diodes FabTech Inc | Lee's Summit, MO | 4/26/2016 | Worker Group Clarification.
92,866 | LEDVANCE, LLC | St. Marys, PA | 5/6/2017 | Worker Group Clarification.
92,882 | Triumph Aerostructures | Red Oak, TX | 3/13/2017 | Other.
92,895 | SmashFly Technologies, Inc | Concord, MA | 5/16/2016 | Worker Group Clarification.
92,903 | The Boeing Company | Tukwila, WA | 8/7/2017 | Worker Group Clarification.
92,933 | Wolfe Tory Medical Inc | Salt Lake City, UT | 6/5/2016 | Worker Group Clarification.
92,952 | Eagle Family Foods Group LLC | Seneca, MO | 6/14/2016 | Worker Group Clarification.
92,992 | Hewlett Packard Enterprise | Chicago, IL | 7/3/2016 | Worker Group Clarification.
92,999 | Atlas Copco Secoroc LLC | Grand Prairie, TX | 7/7/2016 | Worker Group Clarification.
93,007 | Commemorative Brands, Inc | Austin, TX | 8/9/2016 | Technical Error.
93,032 | Ditech Financial LLC | St. Paul, MN | 7/21/2016 | Worker Group Clarification.
93,066 | Kalmar Rough Terrain Center, LLC | Cibolo, TX | 8/7/2016 | Worker Group Clarification.
93,074 | Philips Medical Systems (Cleveland) Inc | Aurora, IL | 8/11/2016 | Worker Group Clarification.
93,140 | U.S. Steel Tubular Products, Inc | Lone Star, TX | 3/13/2017 | Other.
93,173 | Itron, Inc | Owenton, KY | 9/14/2016 | Worker Group Clarification.
93,202 | Dex Media, Inc | Tucker, GA | 10/3/2016 | Worker Group Clarification.
93,202 | Dex Media, Inc | Tucker, GA | 10/3/2016 | Worker Group Clarification.
93,218 | Xerox Corporation | Rochester, NY | 10/6/2016 | Worker Group Clarification.
93,251 | SKF Sealing Solutions | Seneca, KS | 10/25/2016 | Other.
93,254 | Arrow International Inc | Reading, PA | 12/18/2017 | Technical Error.
93,262 | Boyd Coffee Company | Portland, OR | 10/27/2016 | Worker Group Clarification.
93,262 | Boyd Coffee Company | Portland, OR | 10/27/2016 | Worker Group Clarification.
93,295 | RR Donnelley | Lancaster, PA | 10/16/2017 | Technical Error.
93,323 | Payless ShoeSource, Inc | Topeka, KS | 11/22/2016 | Worker Group Clarification.
93,330 | Technicolor Connected Home USA | Indianapolis, IN | 11/28/2016 | Worker Group Clarification.
93,382 | Honeywell International, Inc | Metropolis, IL | 12/20/2016 | Worker Group Clarification.
93,431 | Optum Services Inc, UnitedHealth Group | Hartford, CT | 1/17/2017 | Technical Error.
93,619 | AES Ohio Generation (DP&L) | Aberdeen, OH | 3/6/2017 | Worker Group Clarification.
93,639 | AK Steel Corporation | Lyndora, PA | 9/30/2017 | Technical Error.
93,813 | Cosmoflex, Inc | Hannibal, MO | 5/10/2017 | Other.
82,557A | Ericsson Inc | Overland Park, KS | 3/12/2012 | Worker Group Clarification.
82,557B | Ericsson Inc | Overland Park, KS | 3/12/2012 | Worker Group Clarification.
82,557C | Ericsson Inc | Atlanta, GA | 3/12/2012 | Worker Group Clarification.
82,557D | Ericsson Inc | Overland Park, KS | 3/12/2012 | Worker Group Clarification.
85,286A | United States Steel Corporation | Fairfield, AL | 5/2/2013 | Worker Group Clarification.
85,286B | United States Steel Corporation | East Chicago, IN | 5/2/2013 | Worker Group Clarification.
85,286C | Lorain Northern Railroad | Lorain, OH | 5/2/2013 | Worker Group Clarification.
85,286D | United States Steel Corporation | Pine Buff, AR | 5/2/2013 | Worker Group Clarification.
85,286E | United States Steel Corporation | Gary, IN | 5/2/2013 | Worker Group Clarification.
85,286F | United States Steel Corporation | Ecorse, MI | 5/2/2013 | Worker Group Clarification.
85,286G | Fairfield Southern Company | Fairfield, AL | 5/2/2013 | Worker Group Clarification.
85,629A | Amgen Inc | Bothell, WA | 11/3/2013 | Worker Group Clarification.
85,664A | Kelly Services, Radiant Systems, and U.S. Security Associates, Inc | Woburn, MA | 11/20/2013 | Worker Group Clarification.
85,717A | California Redwood Company | Eureka, CA | 12/9/2013 | Worker Group Clarification.
85,718A | Osram Sylvania | Wilmington, MA | 12/10/2013 | Worker Group Clarification.
85,796A | United States Steel Corporation | Keewatin, MN | 1/27/2014 | Worker Group Clarification.
85,796B | United States Steel Corporation | Mt. Iron, MN | 1/27/2014 | Worker Group Clarification.
85,796C | United States Steel Corporation | Granite City, IL | 1/27/2014 | Worker Group Clarification.
85,796D | United States Steel Corporation | West Mifflin, PA | 1/27/2014 | Worker Group Clarification.
85,867A | Day & Zimmermann Lone Star LLC | East Camden, AR | 3/6/2014 | Worker Group Clarification.
85,911A | Arrow International | Ramseur, NC | 3/27/2014 | Worker Group Clarification.
85,954A | Baker Hughes Incorporated | Broken Arrow, OK | 4/22/2014 | Worker Group Clarification.
85,954B | Baker Hughes Incorporated | Hampton, AR | 4/22/2014 | Worker Group Clarification.
86,001A | Leased Workers from 22nd Century Technologies, Inc, etc | Seattle, WA | 5/8/2014 | Worker Group Clarification.
86,065A | Cliffs Natural Resources, Inc | Palmer, MI | 6/4/2014 | Worker Group Clarification.
86,065B | United Talconite, LLC | Eveleth, MN | 6/4/2014 | Worker Group Clarification.
86,065C | United Talconite, LLC | Forbes, MN | 6/4/2014 | Worker Group Clarification.
86,065D | Hibbing Taconite | Hibbing, MN | 6/4/2014 | Worker Group Clarification.
86,065E | Northshore Mining | Babbitt, MN | 6/4/2014 | Worker Group Clarification.
86,065F | Northshore Mining | Silver Bay, MN | 6/4/2014 | Worker Group Clarification.
86,083A | Magnetation LLC | Bovey, MN | 6/9/2014 | Worker Group Clarification.
86,083B | Magnetation LLC | Grand Rapids, MN | 6/9/2014 | Worker Group Clarification.
86,089A | Huntington Alloys Corporation | Burnaugh, KY | 6/10/2014 | Worker Group Clarification.
90,004A | Citizens Bank, National Association | Bridgeport, CT | 1/1/2014 | Worker Group Clarification.
90,166A | Kelly Services, NEED, Op Amp, Softek, Aerotek, APN Software Solutions | Avon, MA | 1/1/2014 | Worker Group Clarification.
90,281A | Verso Corporation | Beaver Dam, KY | 1/1/2014 | Worker Group Clarification.
90,281B | Verso Corporation | Eddyville, KY | 1/1/2014 | Worker Group Clarification.
90,281C | Verso Corporation | Wickliffe, KY | 1/1/2014 | Worker Group Clarification.
90,281D | Verso Corporation | Bethel Springs, TN | 1/1/2014 | Worker Group Clarification.
90,281E | Verso Corporation | Camden, TN | 1/1/2014 | Worker Group Clarification.
90,281F | Verso Corporation | Dover, TN | 1/1/2014 | Worker Group Clarification.
91,070A | LPL Financial LLC | Charlotte, NC | 10/22/2014 | Worker Group Clarification.
91,070B | LPL Financial LLC | Boston, MA | 10/22/2014 | Worker Group Clarification.
91,092A | One Call Care Management | Tampa, FL | 10/29/2014 | Worker Group Clarification.
91,145A | On-Site Leased Workers from Technical Solutions, Inc, etc | Franklin, PA | 11/16/2014 | Worker Group Clarification.
91,145B | Joy Global Underground Mining, LLC | Reno, PA | 11/16/2014 | Worker Group Clarification.
91,152A | PetroChoice, LLC | Superior, WI | 11/17/2014 | Worker Group Clarification.
91,211A | D+H USA Corporation | Bothell, WA | 12/10/2014 | Wages Reported Under Different FEIN Number.
91,258A | International Business Machines (IBM) | Endicott, NY | 12/22/2014 | Worker Group Clarification.
91,258B | International Business Machines (IBM) | Omaha, NE | 12/22/2014 | Worker Group Clarification.
91,336A | Spirit Aerosystems, Inc | Wichita, KS | 1/12/2015 | Worker Group Clarification.
91,352A | Express Personnel, Randstad and Whelan Security Company | New Madrid, MO | 1/14/2015 | Wages Reported Under Different FEIN Number.
91,554A | Polar Tank Trailer | Opole, MN | 3/4/2015 | Worker Group Clarification.
91,567A | PER MAR Security Services and Elwood Staffing | Bryan, OH | 3/8/2015 | Other.
91,616A | Mary's River Lumber Company | Montesano, WA | 3/21/2015 | Worker Group Clarification.
91,616B | Mary's River Lumber Company | Philomath, OR | 3/21/2015 | Worker Group Clarification.
91,725A | 3M Industrial, A-D Technology, AVI Foodsystems, AXIS Solution | Erie, PA | 4/21/2015 | Worker Group Clarification.
91,809A | Sprint | Blountville, TN | 5/12/2015 | Worker Group Clarification.
91,811A | Sykes Enterprises, Incorporated | Eugene, OR | 5/13/2015 | Worker Group Clarification.
91,811B | Sykes Enterprises, Incorporated | Eugene, OR | 5/13/2015 | Worker Group Clarification.
91,914A | Ocwen Loan Servicing, LLC | Coppell, TX | 4/25/2015 | Worker Group Clarification.
91,914B | Kelly Vendor Management Services | Coppell, TX | 6/10/2015 | Worker Group Clarification.
91,914C | Ocwen Loan Financial Corporation | Houston, TX | 6/10/2015 | Worker Group Clarification.
91,920A | Compucom Systems, Inc | Plano, TX | 6/14/2015 | Worker Group Clarification.
92,106A | Gonzalez Group, LLC | Jonesville, MI | 8/11/2015 | Worker Group Clarification.
92,137A | Weyerhaeuser NR Company | Columbia Falls, MT | 8/23/2015 | Worker Group Clarification.
92,137B | Weyerhaeuser NR Company | Kalispell, MT | 8/23/2015 | Worker Group Clarification.
92,214A | Quantum Spatial, Inc | Ann Arbor, MI | 9/15/2015 | Worker Group Clarification.
92,214B | Quantum Spatial, Inc | Norcross, GA | 9/15/2015 | Worker Group Clarification.
92,214C | Quantum Spatial, Inc | Colorado Springs, CO | 9/15/2015 | Worker Group Clarification.
92,214D | Quantum Spatial, Inc | Corvallis, OR | 9/15/2015 | Worker Group Clarification.
92,214E | Quantum Spatial, Inc | Dulles, VA | 9/15/2015 | Worker Group Clarification.
92,214F | Quantum Spatial, Inc | Lexington, KY | 9/15/2015 | Worker Group Clarification.
92,214G | Quantum Spatial, Inc | Maple Grove, MN | 9/15/2015 | Worker Group Clarification.
92,214H | Quantum Spatial, Inc | Mission, KS | 9/15/2015 | Worker Group Clarification.
92,214I | Quantum Spatial, Inc | Portland, OR | 9/15/2015 | Worker Group Clarification.
92,214J | Quantum Spatial, Inc | Sheboygan, WI | 9/15/2015 | Worker Group Clarification.
92,214K | Quantum Spatial, Inc | Sheboygan Falls, WI | 9/15/2015 | Worker Group Clarification.
92,214L | Quantum Spatial, Inc | St. Petersburg, FL | 9/15/2015 | Worker Group Clarification.
92,243A | Harman | Elkhart, IN | 9/22/2015 | Worker Group Clarification.
92,293A | HP Inc | San Diego, CA | 10/4/2015 | Worker Group Clarification.
92,293A | HP Inc | San Diego, CA | 10/4/2015 | Worker Group Clarification.
92,293A | HP Inc | San Diego, CA | 10/4/2015 | Worker Group Clarification.
92,293B | HP Inc | Fort Collins, CO | 10/4/2015 | Worker Group Clarification.
92,293B | HP Inc | Fort Collins, CO | 10/4/2015 | Worker Group Clarification.
92,293B | HP Inc | Fort Collins, CO | 10/4/2015 | Worker Group Clarification.
92,293C | HP Inc | Alpharetta, GA | 10/4/2015 | Worker Group Clarification.
92,293C | HP Inc | Alpharetta, GA | 10/4/2015 | Worker Group Clarification.
92,293C | HP Inc | Alpharetta, GA | 10/4/2015 | Worker Group Clarification.
92,293D | HP Inc | Boise, ID | 10/4/2015 | Worker Group Clarification.
92,293D | HP Inc | Boise, ID | 10/4/2015 | Worker Group Clarification.
92,293D | HP Inc | Boise, ID | 10/4/2015 | Worker Group Clarification.
92,293E | HP Inc | Rio Rancho, NM | 10/4/2015 | Worker Group Clarification.
92,293E | HP Inc | Rio Rancho, NM | 10/4/2015 | Worker Group Clarification.
92,293E | HP Inc | Rio Rancho, NM | 10/4/2015 | Worker Group Clarification.
92,293F | HP Inc | New York, NY | 10/4/2015 | Worker Group Clarification.
92,293F | HP Inc | New York, NY | 10/4/2015 | Worker Group Clarification.
92,293F | HP Inc | New York, NY | 10/4/2015 | Worker Group Clarification.
92,293G | HP Inc | Corvallis, OR | 10/4/2015 | Worker Group Clarification.
92,293G | HP Inc | Corvallis, OR | 10/4/2015 | Worker Group Clarification.
92,293G | HP Inc | Corvallis, OR | 10/4/2015 | Worker Group Clarification.
92,293H | HP Inc | Plano, TX | 10/4/2015 | Worker Group Clarification.
92,293H | HP Inc | Plano, TX | 10/4/2015 | Worker Group Clarification.
92,293H | HP Inc | Plano, TX | 10/4/2015 | Worker Group Clarification.
92,293I | HP Inc | Houston, TX | 10/4/2015 | Worker Group Clarification.
92,293I | HP Inc | Houston, TX | 10/4/2015 | Worker Group Clarification.
92,293I | HP Inc | Houston, TX | 10/4/2015 | Worker Group Clarification.
92,293J | HP Inc | Austin, TX | 10/4/2015 | Worker Group Clarification.
92,293J | HP Inc | Austin, TX | 10/4/2015 | Worker Group Clarification.
92,293J | HP Inc | Austin, TX | 10/4/2015 | Worker Group Clarification.
92,293K | HP Inc | Vancouver, WA | 10/4/2015 | Worker Group Clarification.
92,293K | HP Inc | Vancouver, WA | 10/4/2015 | Worker Group Clarification.
92,293K | HP Inc | Vancouver, WA | 10/4/2015 | Worker Group Clarification.
92,293L | HP Inc | San Jose, CA | 10/4/2015 | Worker Group Clarification.
92,293L | HP Inc | San Jose, CA | 10/4/2015 | Worker Group Clarification.
92,293L | HP Inc | San Jose, CA | 10/4/2015 | Worker Group Clarification.
92,293M | HP Inc | Aguadilla, PR | 10/4/2015 | Worker Group Clarification.
92,293M | HP Inc | Aguadilla, PR | 10/4/2015 | Worker Group Clarification.
92,293M | HP Inc | Aguadilla, PR | 10/4/2015 | Worker Group Clarification.
92,471A | FCR | Roseburg, OR | 12/7/2015 | Worker Group Clarification.
92,471B | FCR | Grants Pass, OR | 12/7/2015 | Worker Group Clarification.
92,471C | FCR | Coos Bay, OR | 12/7/2015 | Worker Group Clarification.
92,471D | FCR | Veneta, OR | 12/7/2015 | Worker Group Clarification.
92,471E | FCR | Eugene, OR | 12/7/2015 | Worker Group Clarification.
92,625A | tronc, Inc | Lewisville, TX | 2/6/2016 | Ownership Change of a Successor Firm.
92,625B | tronc, Inc | Allentown, PA | 2/6/2016 | Ownership Change of a Successor Firm.
92,625C | tronc, Inc | Baltimore, MD | 2/6/2016 | Ownership Change of a Successor Firm.
92,625D | tronc, Inc | Orlando, FL | 2/6/2016 | Ownership Change of a Successor Firm.
92,625E | tronc, Inc | Deerfield Beach, FL | 2/6/2016 | Ownership Change of a Successor Firm.
92,625F | tronc, Inc | Los Angeles, CA | 2/6/2016 | Ownership Change of a Successor Firm.
92,625G | tronc, Inc | Hartford, CT | 2/6/2016 | Ownership Change of a Successor Firm.
92,625H | tronc, Inc | San Diego, CA | 2/6/2016 | Ownership Change of a Successor Firm.
92,625I | tronc, Inc | San Diego, CA | 2/6/2016 | Ownership Change of a Successor Firm.
92,634A | Seagate Technology | Longmont, CO | 2/10/2016 | Worker Group Clarification.
92,634B | Seagate Technology | Bloomington, MN | 2/10/2016 | Worker Group Clarification.
92,684A | ASG Technologies Group, Inc | Phoenix, AZ | 2/24/2016 | Worker Group Clarification.
92,732A | Crown Casting, LLC | Hodges, SC | 3/12/2017 | Other.
92,754A | Axeon Refining LLC | San Antonio, TX | 3/24/2016 | Worker Group Clarification.
92,754B | Axeon Refining LLC | Stamford, CT | 3/24/2016 | Worker Group Clarification.
92,805A | Nielsen | Fond du Lac, WI | 4/6/2016 | Worker Group Clarification.
92,866A | Wortman Controls, Inc | St. Marys, PA | 5/3/2016 | Worker Group Clarification.
92,903A | The Boeing Company | Portland, OR | 5/19/2016 | Worker Group Clarification.
93,202A | Dex Media, Inc | DFW Airport, TX | 10/3/2016 | Worker Group Clarification.
93,254A | Piper Companies | Reading, PA | 10/27/2016 | Technical Error.
93,262A | Boyd Coffee Company | Eugene, OR | 10/27/2016 | Worker Group Clarification.
93,262A | Boyd Coffee Company | Eugene, OR | 10/27/2016 | Worker Group Clarification.
93,262AA | Boyd Coffee Company | Tempe, AZ | 10/27/2016 | Worker Group Clarification.
93,262AA | Boyd Coffee Company | Tempe, AZ | 10/27/2016 | Worker Group Clarification.
93,262B | Boyd Coffee Company | Boise, ID | 10/27/2016 | Worker Group Clarification.
93,262B | Boyd Coffee Company | Boise, ID | 10/27/2016 | Worker Group Clarification.
93,262BB | Boyd Coffee Company | Council Bluffs, IA | 10/27/2016 | Worker Group Clarification.
93,262BB | Boyd Coffee Company | Council Bluffs, IA | 10/27/2016 | Worker Group Clarification.
93,262C | Boyd Coffee Company | Casper, WY | 10/27/2016 | Worker Group Clarification.
93,262C | Boyd Coffee Company | Casper, WY | 10/27/2016 | Worker Group Clarification.
93,262D | Boyd Coffee Company | Cypress, CA | 10/27/2016 | Worker Group Clarification.
93,262D | Boyd Coffee Company | Cypress, CA | 10/27/2016 | Worker Group Clarification.
93,262E | Boyd Coffee Company | Eagman, MN | 10/27/2016 | Worker Group Clarification.
93,262E | Boyd Coffee Company | Eagman, MN | 10/27/2016 | Worker Group Clarification.
93,262F | Boyd Coffee Company | Fresno, CA | 10/27/2016 | Worker Group Clarification.
93,262F | Boyd Coffee Company | Fresno, CA | 10/27/2016 | Worker Group Clarification.
93,262G | Boyd Coffee Company | Grand Prairie, TX | 10/27/2016 | Worker Group Clarification.
93,262G | Boyd Coffee Company | Grand Prairie, TX | 10/27/2016 | Worker Group Clarification.
93,262H | Boyd Coffee Company | Downers Grove, IL | 10/27/2016 | Worker Group Clarification.
93,262H | Boyd Coffee Company | Downers Grove, IL | 10/27/2016 | Worker Group Clarification.
93,262I | Boyd Coffee Company | Hayward, CA | 10/27/2016 | Worker Group Clarification.
93,262I | Boyd Coffee Company | Hayward, CA | 10/27/2016 | Worker Group Clarification.
93,262J | Boyd Coffee Company | Houston, TX | 10/27/2016 | Worker Group Clarification.
93,262J | Boyd Coffee Company | Houston, TX | 10/27/2016 | Worker Group Clarification.
93,262K | Boyd Coffee Company | Idaho Falls, ID | 10/27/2016 | Worker Group Clarification.
93,262K | Boyd Coffee Company | Idaho Falls, ID | 10/27/2016 | Worker Group Clarification.
93,262L | Boyd Coffee Company | Las Vegas, NV | 10/27/2016 | Worker Group Clarification.
93,262L | Boyd Coffee Company | Las Vegas, NV | 10/27/2016 | Worker Group Clarification.
93,262M | Boyd Coffee Company | Layton, UT | 10/27/2016 | Worker Group Clarification.
93,262M | Boyd Coffee Company | Layton, UT | 10/27/2016 | Worker Group Clarification.
93,262N | Boyd Coffee Company | Lolo, MT | 10/27/2016 | Worker Group Clarification.
93,262N | Boyd Coffee Company | Lolo, MT | 10/27/2016 | Worker Group Clarification.
93,262O | Boyd Coffee Company | Loveland, CO | 10/27/2016 | Worker Group Clarification.
93,262O | Boyd Coffee Company | Loveland, CO | 10/27/2016 | Worker Group Clarification.
93,262P | Boyd Coffee Company | Lynnwood, WA | 10/27/2016 | Worker Group Clarification.
93,262P | Boyd Coffee Company | Lynnwood, WA | 10/27/2016 | Worker Group Clarification.
93,262Q | Boyd Coffee Company | Omaha, NE | 10/27/2016 | Worker Group Clarification.
93,262Q | Boyd Coffee Company | Omaha, NE | 10/27/2016 | Worker Group Clarification.
93,262R | Boyd Coffee Company | Ontario, CA | 10/27/2016 | Worker Group Clarification.
93,262R | Boyd Coffee Company | Ontario, CA | 10/27/2016 | Worker Group Clarification.
93,262S | Boyd Coffee Company | Sacramento, CA | 10/27/2016 | Worker Group Clarification.
93,262S | Boyd Coffee Company | Sacramento, CA | 10/27/2016 | Worker Group Clarification.
93,262T | Boyd Coffee Company | Salinas, CA | 10/27/2016 | Worker Group Clarification.
93,262T | Boyd Coffee Company | Salinas, CA | 10/27/2016 | Worker Group Clarification.
93,262U | Boyd Coffee Company | Salt Lake City, UT | 10/27/2016 | Worker Group Clarification.
93,262U | Boyd Coffee Company | Salt Lake City, UT | 10/27/2016 | Worker Group Clarification.
93,262V | Boyd Coffee Company | San Antonio, TX | 10/27/2016 | Worker Group Clarification.
93,262V | Boyd Coffee Company | San Antonio, TX | 10/27/2016 | Worker Group Clarification.
93,262W | Boyd Coffee Company | San Diego, CA | 10/27/2016 | Worker Group Clarification.
93,262W | Boyd Coffee Company | San Diego, CA | 10/27/2016 | Worker Group Clarification.
93,262X | Boyd Coffee Company | Santa Clarita, CA | 10/27/2016 | Worker Group Clarification.
93,262X | Boyd Coffee Company | Santa Clarita, CA | 10/27/2016 | Worker Group Clarification.
93,262Y | Boyd Coffee Company | Santa Maria, CA | 10/27/2016 | Worker Group Clarification.
93,262Y | Boyd Coffee Company | Santa Maria, CA | 10/27/2016 | Worker Group Clarification.
93,262Z | Boyd Coffee Company | Spokane, WA | 10/27/2016 | Worker Group Clarification.
93,262Z | Boyd Coffee Company | Spokane, WA | 10/27/2016 | Worker Group Clarification.
93,330A | Technicolor Connected Home USA | El Segundo, CA | 11/28/2016 | Worker Group Clarification.
93,330B | Technicolor Connected Home USA | El Segundo, CA | 11/28/2016 | Worker Group Clarification.
93,619A | AES Ohio Generation (DP&L) | Manchester, OH | 3/6/2017 | Worker Group Clarification.
93,619B | AES Ohio Generation (DP&L) | Manchester, OH | 3/6/2017 | Worker Group Clarification.

Revised Determinations (After Affirmative Determination Regarding Application for Reconsideration)

The following revised determinations on reconsideration, certifying eligibility to apply for TAA, have been issued. The date following the company name and location of each determination references the impact date for all workers of such determination.

The following revised determinations on reconsideration, certifying eligibility to apply for TAA, have been issued. The requirements of Section 222(a)(2)(A) (Increased Imports Path) of the Trade Act have been met.

TA-W No. | Subject firm | Location | Impact date
85,355 | Chevron Mining, Inc | Questa, NM | 6/4/2013
91,525 | Teknetix Inc | Parkersburg, WV | 2/26/2015
91,562 | Halliburton Energy Services, Inc | Duncan, OK | 3/7/2015
91,673 | Climax Manufacturing Inc | Lowville, NY | 4/6/2015
92,193 | White Pine Electric Power, LLC | White Pine, MI | 9/9/2015
92,256 | Ball Corporation | Weirton, WV | 9/30/2016
92,453 | Garco Building Systems | Airway Heights, WA | 11/29/2015
92,463 | Brayton Point Energy, LLC | Somerset, MA | 12/5/2015
92,779 | 3M Company | Elyria, OH | 3/31/2016

The following revised determinations on reconsideration, certifying eligibility to apply for TAA, have been issued. The requirements of Section 222(a)(2)(B) (Shift in Production or Services to a Foreign Country Path or Acquisition of Articles or Services from a Foreign Country Path) of the Trade Act have been met.

TA-W No. | Subject firm | Location | Impact date
90,125 | Owens-Brockway Glass Container, Inc | Oakland, CA | 1/1/2014
90,324 | Embarq Management Company/United Telephone of Pennsylvania | Carlisle, PA | 1/1/2014
91,121 | REC Silicon LLC | Moses Lake, WA | 3/23/2015
91,325 | Mesabi Metallics Company LLC f/k/a Essar Steel Minnesota LLC | Hibbing, MN | 1/11/2015
91,380 | Gardner Denver Nash, LLC | Trumbull, CT | 1/22/2015
91,641 | General Electric Company | Fort Edward, NY | 5/30/2016
91,882 | SPX FLOW, Inc | McKean, PA | 6/6/2015
92,590 | MUFG Union Bank, N.A | Monterey Park, CA | 1/27/2016
92,862 | Symantec Corporation | Springfield, OR | 12/5/2017
92,921 | JPMorgan Chase & Co | Columbus, OH | 5/30/2016
93,431 | Optum Services Inc., United HealthGroup | Hartford, CT | 2/22/2018
91,121A | REC Silicon ASA | Silver Bow, MT | 3/23/2015
91,121B | Nemo IT Solutions | Moses Lake, WA | 11/4/2014
91,121C | Spherion Staffing LLC | Silver Bow, MT | 11/4/2014

The following revised determinations on reconsideration, certifying eligibility to apply for TAA, have been issued. The requirements of Section 222(b) (supplier to a firm whose workers are certified eligible to apply for TAA) of the Trade Act have been met.

TA-W No. | Subject firm | Location | Impact date
85,956 | Cameron International Corporation | Duncan, OK | 4/23/2014
91,218 | Mesabi Radial Tire Company | Hibbing, MN | 12/11/2014
91,264 | Shenango Incorporated | Pittsburgh, PA | 12/28/2014
92,537 | General Motors Components Holdings, LLC (GMCH) | Kokomo, IN | 12/9/2015
92,629 | Lone Star Tubular Service Inc | Lone Star, TX | 1/8/2016
93,223 | Saint-Gobain Proppants | Fort Smith, AR | 10/14/2017

Negative Determinations on Reconsideration (After Affirmative Determination Regarding Application for Reconsideration)

In the following cases, negative determinations on reconsideration have been issued because the eligibility criteria for TAA have not been met for the reason(s) specified.

The investigation revealed that the criteria under Trade Act section 222 (a)(2)(A)(i) (decline in sales or production, or both), (a)(2)(B) (shift in production or services to a foreign country or acquisition of articles or services from a foreign country), (b)(2) (supplier to a firm whose workers are certified eligible to apply for TAA or downstream producer to a firm whose workers are certified eligible to apply for TAA), (b)(3)(component parts supplied accounted for at least 20% of production/sales, or loss of business with firm contributed importantly to worker separation or threat of separation), and (e) (International Trade Commission) have not been met.

TA-W No. | Subject firm | Location
91,791 | Woodard & Curran, Inc | Madison, ME.
91,875 | Manitowoc Cranes, LLC | Manitowoc, WI.

The investigation revealed that the criteria under Trade Act section 222(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) have not been met.

TA-W No. | Subject firm | Location
91,138 | GrafTech International Holdings Inc | Anmoore, WV.
91,569 | Vigo Coal Operating Company, LLC | Mount Carmel, IL.
91,957 | Joy Global, Inc | Eighty Four, PA.
92,318 | Vancouver Iron and Steel, Inc | Vancouver, WA.
92,612 | Graphics Art Center | Portland, OR.
93,094 | Health Care Service Corporation | Marion, IL.
91,569A | Vigo Coal Operating Company, LLC | Boonville, IN.
91,569B | Vigo Coal Operating Company, LLC | Evansville, IN.

Revised Determinations (on Remand From the Court of International Trade)

The following revised determinations on remand, certifying eligibility to apply for TAA, have been issued. The date following the company name and location of each determination references the impact date for all workers of such determination and the reason(s) for the determination.

The following revised determinations on remand, certifying eligibility to apply for TAA, have been issued. The requirements of Section 222(a)(2)(A) (Increased Imports Path) of the Trade Act have been met.

TA-W No. | Subject firm | Location | Impact date
92,182 | Gerdau Ameristeel US, Inc | Calvert City, KY | 9/6/2015

The following revised determinations on remand, certifying eligibility to apply for TAA, have been issued. The requirements of Section 222(b) (supplier to a firm whose workers are certified eligible to apply for TAA) of the Trade Act have been met.

TA-W No. | Subject firm | Location | Impact date
92,063 | Brenntag Pacific, Inc | Portland, OR | 7/13/2015

Negative Determinations (on Remand From the Court of International Trade)

In the following cases, negative determinations on remand have been issued because the eligibility criteria for TAA have not been met for the reason(s) specified.

The investigation revealed that the requirements of Trade Act Section 222 (a)(1) and (b)(1) (significant worker total/partial separation or threat of total/partial separation), or (e) (firms identified by the International Trade Commission) have not been met.

TA-W No. | Subject firm | Location
92,826 | Honeywell International, Inc | Melville, NY.

The investigation revealed that the criteria under Trade Act section 222 (a)(2)(A)(i) (decline in sales or production, or both), (a)(2)(B) (shift in production or services to a foreign country or acquisition of articles or services from a foreign country), (b)(2) (supplier to a firm whose workers are certified eligible to apply for TAA or downstream producer to a firm whose workers are certified eligible to apply for TAA), (b)(3)(component parts supplied accounted for at least 20% of production/sales, or loss of business with firm contributed importantly to worker separation or threat of separation), and (e) (International Trade Commission) have not been met.

TA-W No. | Subject firm | Location
90,092 | Geokinetics, Inc | Houston, TX.

The investigation revealed that the criteria under Trade Act section 222(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) have not been met.

TA-W No. | Subject firm | Location
90,092 | Geokinetics, Inc | Houston, TX.
92,518 | Fifth Third Bank | Coral Gables, FL.

Signed at Washington, DC, this 4th day of September 2018.
Hope D. Kinglock,
Certifying Officer, Office of Trade Adjustment Assistance.

[FR Doc. 2018-22915 Filed 10-19-18; 8:45 am]

BILLING CODE 4510-FN-P